DEPARTMENT OF AGRICULTURE

Farm Service Agency

Information Collection; United States Warehouse Act (USWA)

AGENCY: Farm Service Agency, USDA.

ACTION: Notice; request for comments.

SUMMARY: In accordance with the Paperwork Reduction Act of 1995, the Farm Service Agency (FSA) is requesting comments from all interested individuals and organizations on an extension with a revision of a currently approved information collection process associated with the regulations, licensing, and electronic provider agreements issued as specified in the United States Warehouse Act (USWA).

DATES: We will consider comments that we receive by November 28, 2014

ADDRESSES: We invite you to submit comments on this Notice. In your comment, include volume, date and page number of this issue of the Federal Register. You may submit comments by any of the following methods:

• Federal eRulemaking Portal: Go to www.regulations.gov. Follow the online instructions for submitting comments.

• Mail: Judy Fry, Agricultural Marketing Specialist, Commodity Operations Division, Farm Service Agency (FSA), United States Department of Agriculture, STOP 0553, 1400 Independence Avenue SW., Washington, DC 20250-0553.

You may also send comments to the Desk Officer for Agriculture, Office of Information and Regulatory Affairs, OMB, Washington, DC 20503. Copies of the information collection may be requested by contacting Judy Fry as provided below.

FOR FURTHER INFORMATION CONTACT: Judy Fry, telephone (202) 720-3822. Persons with disabilities who require alternative means for communication of regulatory information (Braille, large print, audiotape, etc.) should contact USDA's TARGET Center at (202) 720-2600 (voice).

SUPPLEMENTARY INFORMATION:

Title: United States Warehouse Act (USWA).

OMB Control Number: 0560-0120.

Expiration Date of Approval: March 31, 2015

Type of Request: Extension with a revision of a currently approved information collection.

Abstract: The Secretary of Agriculture authorizes FSA as specified in the USWA to license public warehouse operators that are in the business of storing agricultural products; to examine such federally-licensed warehouses and to license qualified persons to sample, inspect, weigh, and classify agricultural products. The FSA licenses under the USWA cover approximately half of all commercial grain and cotton warehouse capacities in the United States. The regulations that implement the USWA govern the establishment and maintenance of systems under which documents, including title documents on shipment, payment and financing, may be issued or transferred for agricultural products. Some of these systems and documents issued may be electronic.

This information collection allows the FSA to effectively administer the regulations, licensing, and electronic provider agreements and related reporting and recordkeeping requirements as specified in the USWA.

The forms in this information collection are used to provide those charged with issuing licenses under the USWA a basis to determine whether the warehouse and the warehouse operator meet application requirements to receive a license, and to determine compliance once the license is issued.

This information collection package is being revised to reflect a decrease in the reporting burden hours. This reduction is the result of warehouse operators continuing to consolidate warehouse licenses, which reduces the number of documents needed for continued operation of the warehouse facilities.

The formula used to calculate the total burden hour is estimated average time per responses hours times total annual responses.

Estimate of Burden: Public reporting burden for this information collection is estimated to average 0.46 hours per response.

Respondents: Warehouse operators and electronic providers.

Estimated Number of Respondents: 3,000.

Estimated Number of Responses Per Respondent: 5.96.

Estimated Total Annual Responses: 17,872.

Estimated Average Time per Response: 0.46.

Estimated Total Annual Burden on Respondents: 8,238 Hours.

We are requesting comments on all aspects of this information collection to help us to:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who are to respond through the use of appropriate automated, electronic, mechanical, or other technological collection techniques or other forms of information technology.

All comments received in response to this notice, including names and addresses when provided, will be made a matter of public record. Comments will be summarized and included in the request for OMB approval of the information collection.

Signed on September 18, 2014.
Val Dolcini,
Administrator, Farm Service Agency.

[FR Doc. 2014-23085 Filed 9-26-14; 8:45 am]

BILLING CODE 3410-05-P